DEPARTMENT OF ENERGY

President's Council of Advisors on Science and Technology

AGENCY: Department of Energy, Office of Science.

ACTION: Notice of closed meeting.

SUMMARY: This notice announces a meeting of the President's Council of Advisors on Science and Technology (PCAST). Notice of this meeting is required under the Federal Advisory Committee Act (FACA), 5 U.S.C., App. 2.

DATES: October 23, 2014.

ADDRESSES: The meeting was held at the White House, 1600 Pennsylvania Ave. NW., Washington, DC.

FOR FURTHER INFORMATION CONTACT: Questions about the meeting should be directed to Dr. Ashley Predith at apredith@ostp.eop.gov, (202) 456-4444.

SUPPLEMENTARY INFORMATION: The President's Council of Advisors on Science and Technology (PCAST) is an advisory group of the nation's leading scientists and engineers, appointed by the President to augment the science and technology advice available to him from inside the White House, cabinet departments, and other Federal agencies. See the Executive Order at http://www.whitehouse.gov/ostp/pcast. PCAST is consulted about and provides analyses and recommendations concerning a wide range of issues where understandings from the domains of science, technology, and innovation may bear on the policy choices before the President. PCAST is co-chaired by Dr. John P. Holdren, Assistant to the President for Science and Technology, and Director, Office of Science and Technology Policy, Executive Office of the President, The White House; and Dr. Eric S. Lander, President, Broad Institute of the Massachusetts Institute of Technology and Harvard.

Type of Meeting: Closed.

Schedule and Agenda: The President's Council of Advisors on Science and Technology (PCAST) met with the President of the United States from 1:45-2:45 p.m. ET on October 23, 2014 at the White House. The location was chosen for the President's scheduling convenience and to maintain Secret Service protection. This meeting was planned and held on short notice due to the urgency of the topic and a Federal Register Notice could not be published before the meeting. PCAST has the authority to hold closed meetings with the President.

Public Comments: It is the policy of the PCAST to accept written public comments of any length, and to accommodate oral public comments whenever possible. Written comments are accepted continuously. Information regarding how to submit comments and documents to PCAST is available at http://whitehouse.gov/ostp/pcast in the section entitled “Connect with PCAST.”

Please note that because PCAST operates under the provisions of FACA, all public comments will be treated as public documents and will be made available for public inspection, including being posted on the PCAST Web site.

Issued in Washington, DC on January 27, 2015.
LaTanya R. Butler,
Deputy Committee Management Officer.

[FR Doc. 2015-01931 Filed 1-30-15; 8:45 am]

BILLING CODE 6450-01-P